NATIONAL AERONAUTICS AND SPACE ADMINISTRATION

[Notice: (11-035)]

NASA Advisory Council; Space Operations Committee; Meeting.

AGENCY: National Aeronautics and Space Administration.

ACTION: Notice of meeting.

SUMMARY: In accordance with the Federal Advisory Committee Act, Public Law 92-463, as amended, the National Aeronautics and Space Administration announces a meeting of the NASA Advisory Council (NAC) Space Operations Committee.

DATES: Tuesday, May 3, 2011, 8 a.m.-2 p.m. local time.

ADDRESSES: Doubletree Hotel, 2080 North Atlantic Ave, Cocoa Beach, FL 32931.

FOR FURTHER INFORMATION CONTACT: Mr. Jacob Keaton, NAC Space Operations Committee Executive Secretary, National Aeronautics and Space Administration Headquarters, Washington, DC 20546, 202/358-1507, jacob.keaton@nasa.gov.

SUPPLEMENTARY INFORMATION: The agenda for the meeting includes the following topics:

—Space Operations Mission Directorate FY2012 Budget.

—Commercial Crew Development Program status.

—Commercial Orbital Transportation System status.

—21st Century Launch Complex status.

—Recommendation preparation and discussion.

The meeting will be open to the public up to the seating capacity of the room. It is imperative that the meeting be held on this date to accommodate the scheduling priorities of the key participants.

P. Diane Rausch,
Advisory Committee Management Officer, National Aeronautics and Space Administration.

[FR Doc. 2011-8845 Filed 4-12-11; 8:45 am]

BILLING CODE 7510-13-P